DEPARTMENT OF HOMELAND SECURITY

Coast Guard

33 CFR Part 117

[Docket No. USCG-2011-1082]

Drawbridge Operation Regulation; Escatawpa River, Moss Point, MS

AGENCY: Coast Guard, DHS.

ACTION: Notice of temporary deviation from regulations.

SUMMARY: The Commander, Eighth Coast Guard District, has issued a temporary deviation from the regulation governing the operation of the Mississippi Export Railroad Company swing bridge across the Escatawpa River, mile 3.0, at Moss Point, Jackson County, Mississippi. This deviation is necessary to replace the cracked center housing and other repair work needed. This deviation allows the bridge to remain in the closed-to-navigation position during 3 days in January.

DATES: This deviation is effective from 6 a.m. on Tuesday, January 3, 2012 through 11 p.m. on Thursday, January 5, 2012.

ADDRESSES: Documents mentioned in this preamble as being available in the docket are part of docket USCG-2011-1082 and are available online by going to http://www.regulations.gov, inserting USCG-2011-1082 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Donna Gagliano, Bridge Administration Branch, Coast Guard; telephone (504) 671-2128 or email Donna.Gagliano@uscg.mil. If you have questions on viewing the docket, call Renee V. Wright, Program Manager, Docket Operations, telephone (202) 366-9826.

SUPPLEMENTARY INFORMATION: The Mississippi Export Railroad Company has requested a temporary deviation from the operating schedule for the swing span bridge across Escatawpa River, mile 3.0, at Moss Point, Jackson County, Mississippi. The swing span bridge has a horizontal clearance of 69 feet and a vertical clearance of 6 feet above mean high water (based on the National Geodatic Vertical Datum of 1929) in the closed-to-navigation position.

In accordance with 33 CFR 117.5, except as otherwise authorized or required by this part, drawbridges must open promptly and fully for the passage of vessels when a request or signal to open is given in accordance with this subpart. This deviation allows the swing span of the bridge to remain in the closed-to-navigation position beginning at 6 a.m. on Tuesday, January 3 through 11 p.m. Thursday, January 5, 2012 with no openings.

The closure is necessary to perform the work continuously in replacing the cracked center housing and other repair work. This maintenance is essential for the continued operation of the bridge. Notices will be published in the Eighth Coast Guard District Local Notice to Mariners and will be broadcast via the Coast Guard Broadcast Notice to Mariners System.

Navigation on the waterway consists of commercial tugs with tows, fishing vessels, and other recreational crafts. There is only one company that transits above the bridge. Based on experience and coordination with waterway users, it has been determined that this closures will not have a significant effect on vessels that use the waterway. The Coast Guard has coordinated the closure with waterway users, industry, and other Coast Guard units. There are no alternate routes. The bridge will not be able to open for emergencies.

In accordance with 33 CFR 117.5(e), the drawbridge must return to its regular operating schedule immediately at the end of the designated time period. This deviation from the operating regulations is authorized under 33 CFR 117.35.

Dated: November 21, 2011.
David M. Frank,
Bridge Administrator.

[FR Doc. 2011-32629 Filed 12-20-11; 8:45 am]

BILLING CODE 9110-04-P